DEPARTMENT OF TRANSPORTATION

Bureau of Transportation Statistics

Reports, Forms and Recordkeeping Requirements; Agency Information Collection Activity Under OMB Review

AGENCY: Bureau of Transportation Statistics, DOT.

ACTION: Notice.

SUMMARY: In compliance with the Paperwork Reduction Act of 1995 (44 U.S.C. 3501 et seq.), this notice announces that the Information Collection Request (ICR) abstracted below has been forwarded to the Office of Management and Budget (OMB) for extension of currently approved collections. The ICR describes the nature of the information collection and its expected burden. The Federal Register Notice with a 60-day comment period soliciting comments on the following collection of information was published on April 13, 2000 [65 FR 19961-19962].

DATES: Comments must be submitted on or before August 16, 2000.

FOR FURTHER INFORMATION CONTACT: Bernie Stankus, (202) 366-4387, DOT, Office of Airline Information, Room 4125, K-25, 400 Seventh Street, NW., Washington, DC 20590-0001.

SUPPLEMENTARY INFORMATION:

Bureau of Transportation Statistics (BTS)

Title: Passenger Origin Destination Survey Report.

Type of Request: Extension of a currently approved Collection.

OMB Control Number: 2139-0001.

Affected Public: Large certificated scheduled passenger air carriers.

Abstract: DOT uses the Passenger Origin-Destination Survey Report in administering its international aviation program, in evaluating carrier fitness, monitoring passenger fares, assessing airline competition and assessing airport needs.

Estimated Annual Burden Hours: 38,080.

ADDRESSES: Send comments to the Office of Information and Regulatory Affairs, Office of Management and Budget, 725-17th Street, NW., Washington, DC 20503, Attention BTS Desk Officer.

Comments are Invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued in Washington, DC on July 10, 2000.
Donald W. Bright,
Acting Director, Office of Airline Information, Bureau of Transportation Statistics.

[FR Doc. 00-18013 Filed 7-14-00; 8:45 am]

BILLING CODE 4910-FE-P